DEPARTMENT OF HEALTH AND HUMAN SERVICES

Health Information Technology Policy Committee; Notice of Meeting

AGENCY: Office of the National Coordinator for Health Information Technology, HHS.

ACTION: Notice and request for comments.

Authority: Section 3002, Public Law 111-5, 123 Stat. 115.

SUMMARY: This notice invites comments, within ten (10) days of the June 16, 2009, HIT Policy Committee (the “Committee”) meeting, on the Committee's discussions of and draft recommendations for the term “meaningful use” available at http://healthit.hhs.gov. Comments will be received by the Committee for consideration and further recommendations to the National Coordinator of Health Information Technology on the elements and measures of Meaningful Use of a certified EHR.

The HIT Policy Committee is a Federal Advisory Committee (FACA) to the U.S. Department of Health and Human Services (HHS), which will be meeting on June 16, 2009, to explore further the term “meaningful use” of electronic health records (EHRs). Announcement of this meeting was published in the Federal Register on June 4 (74 FR 26866). This meeting is an important next step for the Department, as it investigates possible definitions for the term meaningful use.

The American Recovery and Reinvestment Act of 2009 (the “Recovery Act”) (Pub. L. 111-5) provides for Medicare and Medicaid incentive payments for eligible providers, such as physicians and hospitals, in order to promote the adoption of EHRs. To receive the incentive payments, providers must demonstrate “meaningful use” of a certified EHR. Building upon the work of the HIT Policy Committee, HHS anticipates developing a proposed rule that provides greater detail on the incentive programs and “meaningful use.” HHS expects to issue the proposed rule in late 2009, which will be followed by a comment period.

The HIT Policy Committee's Meaningful Use Workgroup will present its recommendations to the HIT Policy Committee at the Committee's June 16, 2009 meeting. The Workgroup's presentation will reflect diverse ideas and contributions from the workgroup members, and build upon the National Committee on Vital and Health Statistics (NCVHS) public hearing on “meaningful use” convened in April 2009. The NCVHS hearing brought together key healthcare and information technology stakeholder groups.

DATES: All comments on the draft description of Meaningful Use should be received no later than 5 p.m./Eastern Time on June 26, 2009.

ADDRESSES: Electronic responses to the request for comments on the draft description of Meaningful Use are preferred and should be addressed to: MeaningfulUse@hhs.gov, subject line “Meaningful Use.” Written comments may also be submitted to the Office of the National Coordinator for Health Information Technology, 200 Independence Ave, SW., Suite 729D, Washington, DC 20201. Attention: HIT Policy Committee Meaningful Use Comments.

FOR FURTHER INFORMATION CONTACT: Cut and paste the link below in your browser. http://healthit.hhs.gov/portal/server.pt?open=512&objID=1269&parentname=CommunityPage&parentid=8&mode=2&in_hi_userid=10741&cached=true.

For additional information, including any requests for a hard copy (or faxed copy) of the draft description of Meaningful Use, call or e-mail Judith Sparrow, 202-205-4528, judy.sparrow@hhs.gov.

SUPPLEMENTARY INFORMATION: The HIT Policy Committee requests comments on the draft description of Meaningful Use by June 26, 2009. We request that comments be no more than 2,000 words in length. Please send comments to the address, for receipt by the due date, specified above.

Dated: June 15, 2009.
Judith Sparrow,
Office of Programs and Coordination, Office of the National Coordinator for Health Information Technology.

[FR Doc. E9-14379 Filed 6-16-09; 11:15 am]

BILLING CODE 4150-45-P